DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Date and Time: April 10, 2003; 8:30 a.m.—4:30 p.m. April 11, 2003; 8:30 a.m.—12 noon.

Place: Holiday Inn Select, Versailles 4, 8120 Wisconsin Avenue, Bethesda, MD 20814.

Status: The meeting will be open to the public.

Agenda: The agenda for April 10 will include: welcome and opening comments from the Associate Administrator for Health Professions, the Chair of COGME, and the Acting Executive Secretary of COGME. In the morning there will be a panel of speakers on the topics covering the “Impact of Malpractice Insurance on Physician Practice” and “Impact of Residency Duty Hours Restriction—Cost and Structural Adaptations.”

In the afternoon there will be presenters on “Assessment of Medicare's International Medical Education Payments for Graduate Medical Education.” After the presentations the Council's three workgroups will convene. They are the Workgroup on Diversity, Workgroup on Graduate Medical Education Financing, and Workgroup on Workforce.

The agenda for April 11 will include a discussion of the Report of the Institute of Medicine, “Health Professions Education: A Bridge to Quality.” The three workgroup chairs will give their reports. There will be a discussion on the Development of a Framework for Revised COGME Physician Workforce Goals, plans for future work, and new business.

Agenda items are subject to change as priorities dictate.

FOR FURTHER INFORMATION CONTACT: Anyone requiring information regarding the meeting should contact Stanford M. Bastacky, D.M.D., M.H.S.A., Acting Executive Secretary, Council on Graduate Medical Education, Division of Medicine and Dentistry, Bureau of Health Professions, Room 9A-27, Parklawn Building, 5600 Fishers Lane, Rockville, Maryland 20857, Telephone (301) 443-6326.

Dated: March 7, 2003.
Jane M. Harrison,
Director, Division of Policy Review and Coordination.

[FR Doc. 03-6112 Filed 3-12-03; 8:45 am]

BILLING CODE 4165-15-P